ENVIRONMENTAL PROTECTION AGENCY

[EPA-HQ-OAR-2004-0501; FRL-9923-00-OAR]

Proposed Information Collection Request; Comment Request; Information Collection Request for Green Power Partnership and Combined Heat and Power Partnership

AGENCY: Environmental Protection Agency (EPA).

ACTION: Notice.

SUMMARY: The Environmental Protection Agency (EPA) is planning to submit an information collection request (ICR), Information Collection Request for Green Power Partnership and Combined Heat and Power Partnership” (EPA ICR No. 2173.02, OMB Control No. 2060-0578) to the Office of Management and Budget (OMB) for review and approval in accordance with the Paperwork Reduction Act (44 U.S.C. 3501 et seq.). Before doing so, EPA is soliciting public comments on specific aspects of the proposed information collection as described below. This is a proposed extension of the ICR, which is currently approved through July 31, 2015 An Agency may not conduct or sponsor and a person is not required to respond to a collection of information unless it displays a currently valid OMB control number.

DATES: Comments must be submitted on or before April 20, 2015.

ADDRESSES: Submit your comments, referencing Docket ID No. EPA-HQ-OAR-2004-0501, online using www.regulations.gov (our preferred method), by email to: a-and-r-docket@epamail.epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Christopher Kent, Climate Protection Partnerships Division, Office of Atmospheric Programs, MC 6202A Environmental Protection Agency, 1200 Pennsylvania Ave. NW., Washington, DC 20460; telephone number: 202-343-9046; fax number: 202-343-2208; email address: kent.christopher@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In 2002, EPA launched two new partnership programs with industry and other stakeholders: The Green Power Partnership (GPP) and the Combined Heat and Power Partnership (CHPP). These voluntary partnership programs encourage organizations to invest in clean, efficient energy technologies, including renewable energy and combined heat and power. To continue to be successful, it is critical that EPA collect information from GPP and CHPP Partners to ensure these organizations are meeting their renewable energy and CHP goals and to assure the credibility of these voluntary partnership programs.

EPA has developed this ICR to obtain authorization to collect information from organizations participating in the GPP and CHPP. Organizations that join these programs voluntarily agree to the following respective actions: (1) Designating a Green Power or CHP liaison and filling out a Partnership Agreement or Letter of Intent (LOI) respectively, (2) for the GPP, reporting to EPA, on an annual basis, their progress toward their green power commitment via a 3-page reporting form; (3) for the CHP Partnership, reporting to EPA information on their existing CHP projects, new project development, and other CHP-related activities via a one-page reporting form (for projects) or via an informal email or phone call (for other CHP-related activities). EPA uses the data obtained from its Partners to assess the success of these programs in achieving their national energy and greenhouse gas (GHG) reduction goals. Partners are organizational entities that have volunteered to participate in either Partnership program.

Form Numbers: EPA-430-K-013, EPA-430-F-05-034.

Respondents/affected entities:

Respondent's obligation to respond: Voluntary.

Estimated number of respondents: 2,565.

Frequency of response: Annually, on Occasion, One time.

Total estimated burden: 8,191 hours (per year). Burden is defined at 5 CFR 1320.03(b).

Total estimated cost: $706,709 (per year), includes $7,478 annualized capital or operation & maintenance costs.

Changes in Estimates: There is an increase of 2,368 hours in the total estimated respondent burden compared with the ICR currently approved by OMB. The average number of hours per Partners remained the same at 3.2 hours, pending a partner survey to determine the results of these efficiencies. The total hourly burden increased because due to an increase in the number of Partners. For perspective on the magnitude of partner growth, the number of Partners at the end of 2011 was 1,308, and at the end of 2014 there is was 2,041.

The total cost estimate (including both Respondents and Agency burden) over the 3 year period for this renewal ICR is $2,805,913, or an average of $935,304 per year, of which $7,749 is O&M costs. The total cost to GPP and CHP Partners is $2,120,126, or $706,709 per year. The total cost estimate increase for Partners is due to an increase in the number of Partners and increases in wages.

Dated: February 6, 2015.
Elizabeth Craig,
Director, Climate Protection Partnerships Division.

[FR Doc. 2015-03299 Filed 2-17-15; 8:45 am]

BILLING CODE 6560-50-P